DEPARTMENT OF COMMERCE

National Oceanic and Atmospheric Administration

[I.D. 041505G]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings. See SUPPLEMRNTARY INFORMATION for specific meeting schedule.

DATES: The meetings will be held May 9 - 12, 2005.

ADDRESSES: These meetings will be held at the Palace Casino Resort, 158 Howard Avenue, Biloxi, MS.

Council address: Gulf of Mexico Fishery Management Council, 3018 North U.S. Highway 301, Suite 1000, Tampa, FL 33619.

FOR FURTHER INFORMATION CONTACT: Wayne E. Swingle, Executive Director, Gulf of Mexico Fishery Management Council; telephone: 813.228.2815.

SUPPLEMENTARY INFORMATION:

Council Meetings - Shedule

Wednesday, May 11, 2005

8:30 a.m. - Convene.

8:45 a.m. - 12 Noon - Receive public testimony on (a) Final Shrimp Amendment 13/EA and (b) Exempted fishing permits (if any).

1 p.m. - 1:30 p.m. - Receive a report on the Administration's Ocean Action Plan.

1:30 p.m. - 2:45 p.m. - Receive a presentation on major law enforcement issues regarding red snapper violations and illegal seafood imports.

2:45 p.m. - 3 p.m. - Receive the National State Fishery Directors' Meeting report.

3 p.m. - 4 p.m. - Receive the Shrimp Management Committee report.

4 p.m. - 4:15 p.m. - Receive the AP Selection Committee Report (CLOSED SESSION).

4:15 p.m. - 4:30 p.m. - Receive the SSC Selection Committee Report (CLOSED SESSION).

4:30 p.m. - 4:45 p.m. - Receive the SEDAR Committee Report (CLOSED SESSION).

4:45 p.m. - 5 p.m. - Receive the Joint Budget/Personnel Committee Report (CLOSED SESSION).

Thursday, May 12, 2005

8:30 a.m. - 8:35 a.m. - Receive the AP Selection Committee Report.

8:35 a.m. - 8:40 a.m. - Receive the SSC Selection Committee Report.

8:40 a.m. - 8:45 a.m. - Receive the SEDAR Committee Report.

8:45 a.m. - 9 a.m. - Receive the Joint Budget/Personnel Committee Report.

9 a.m. - 9:30 a.m. - Receive the Reef Fish Management Committee report.

9:30 a.m. - 9:45 a.m. - Receive the Joint Administrative Policy/Budget/Personnel Committee Report.

9:45 a.m. - 10 a.m. Receive the Habitat Protection Committee Report.

10 a.m. - 10:15 a.m. - Receive the Joint Reef Fish/Mackerel Committee Report.

10:15 a.m. - 10:30 a.m. - Receive the Data Collection Committee Report.

10:30 a.m. - 10:45 a.m. - Receive the NMFS Billfish and HMS AP Meeting Report.

10:45 a.m. - 11 a.m. - Receive Enforcement Reports.

11 a.m. - 11:15 a.m. - Receive the NMFS Regional Administrator's report.

11:15 a.m. - 11:30 a.m. - Receive Directors' Reports.

11:30 a.m. - 11:45 a.m. - Other Business.

Committee

Monday, May 9, 2005

9:30 a.m. - 10 a.m. - The Advisory Panel (AP) Selection Committee will meet in closed session to appoint AP members.

10 a.m. - 10:15 a.m. - The Scientific and Statistical (SSC) Selection Committee will meet in closed session to appoint SSC members.

10:15 a.m. - 11:30 a.m. - The Joint Budget/Personnel Committee will meet in closed session to make recommendations to Council on the selection of an Ecosystem Facilitator and then open session to review the Council's operational budget for CY2005.

1 p.m. - 3 p.m. - The Shrimp Management Committee will review public hearing summaries, public letters, AP recommendations, LEAP recommendations, SEP comments, SSC recommendations and committee recommendations on Final Shrimp Amendment 13/EA, which addresses limited access in the shrimp fishery in order to make recommendations to the Council.

3 p.m. - 4 p.m. - The Joint Administrative Policy/Budge/Personnel Committee will meet to review the Family Medical Leave Act (FMLA) revision to the SOPPs.

4 p.m. - 4:45 p.m. - The Habitat Protection Committee will hear reports on the Essential Fish Habitat (EFH) Coordinators' Meeting and the Southeast Aquatic Resources Partnership (SARP) Meeting. They will then hear an update on liquefied natural gas (LNG) Facility Permitting.

4:45 p.m. - 5:30 p.m. - The Data Collection Committee will receive a presentation on the Gulf of Mexico Coastal Ocean Observing System.

Tuesday, May 10, 2005

8:30 a.m. - 9:15 a.m. - The SEDAR Committee will meet in closed session to select panel participants for SEDAR workshops for amberjack, vermilion snapper and gray triggerfish.

9:15 a.m. - 12:00 noon - The Reef Fish Management Committee will meet to review Public Hearing Draft Reef Fish Amendment 18A/EA, which addresses the grouper fishery and receive a demonstration of bycatch release gear. The Committee will then receive the red grouper 2004/2005 landings data and hear a status report on the interim red grouper rule. The Committee will review a revised options paper for the Red Grouper Regulatory Amendment providing for commercial vessel trip limits and a revised total allowable catch (TAC) and then discuss the red grouper industry buy-out business plan.

1:30 p.m. - 3:30 p.m. - The Joint Reef Fish/Mackerel Management Committees will review a public hearing draft of a Generic Amendment for Extension of Charter Vessel Permit Moratorium.

Although other non-emergency issues not on the agendas may come before the Council and Committees for discussion, in accordance with the Magnuson-Stevens Fishery Conservation and Management Act (M-SFCMA), those issues may not be the subject of formal action during these meetings. Actions of the Council and Committees will be restricted to those issues specifically identified in the agendas and any issues arising after publication of this notice that require emergency action under Section 305(c) of the

M-SFCMA, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Dawn Aring at the Council (see ADDRESSES) by May 2, 2005.

Dated: April 18, 2005.
Emily Menashes,
Acting Director, Office of Sustainable Fisheries, National Marine Fisheries Service.

[FR Doc. E5-1873 Filed 4-20-05; 8:45 am]

BILLING CODE 3510-22-S